DEPARTMENT OF EDUCATION

Office of Special Education and Rehabilitative Services

[CFDA No.: 84.326N]

Special Education—Technical Assistance and Dissemination To Improve Services and Results for Children With Disabilities—National Dissemination Center for Individuals With Disabilities (84.326N)

ACTION: Notice inviting applications for new awards for fiscal year (FY) 2003.

SUMMARY: The Assistant Secretary for Special Education and Rehabilitative Services invites applications for FY 2003 under the Special Education—Technical Assistance and Dissemination to Improve Services and Results for Children with Disabilities Program. This program is authorized under the Individuals with Disabilities Education Act (IDEA), as amended. This notice provides closing dates, priorities, and other information regarding the transmittal of applications.

Purpose of Program: This program provides technical assistance and information that (1) support States and local entities in building capacity to improve early intervention, educational, and transitional services and results for children with disabilities and their families; and (2) address goals and priorities for changing State systems that provide early intervention, educational, and transitional services for children with disabilities and their families.

Eligible Applicants: State educational agencies, local educational agencies, institutions of higher education, other public agencies, nonprofit private organizations, for-profit organizations, outlying areas, freely associated States, and Indian tribes or Tribal organizations.

Applications Available: July 30, 2003.

Deadline for Transmittal of Applications: August 29, 2003.

Deadline for Intergovernmental Review: September 29, 2003.

Estimated Available Funds: $1.6 million.

Maximum Awards: $1.6 million.

Note: in years 2-5 of the project period for the National Dissemination Center for Individuals with Disabilities grant, the maximum award amount is $1,900,000.

Note: The Department is not bound by any estimates in this notice.

Project Period: Up to 60 months.

Page Limit: (Part III of the application) is where you, the applicant, address the selection criteria that reviewers use to evaluate your application. You must limit Part III to the equivalent of no more than 70 pages, using the following standards:

• A “page” is 8.5″ x 11″, on one side only with 1″ margins at the top, bottom, and both sides.

• Double space (no more than three lines per vertical inch) all text in the application narrative, including titles, headings, footnotes, quotations, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, references, or the letters of support. However, you must include all of the application narrative in Part III. We will reject your application if—

• You apply these standards and exceed the page limit; or

• You apply other standards and exceed the equivalent of the page limit.

Applicable Regulations: The Education Department General Administrative Regulations (EDGAR) in 34 CFR parts 74, 75, 77, 79, 80, 81, 82, 85, 86, 97, 98, and 99.

Note: The regulations in 34 CFR part 79 apply to all applicants except federally recognized Indian tribes.

Note: The regulations in 34 CFR part 86 apply to institutions of higher education only.

Selection Criteria: In evaluating an application for a new grant under this competition, we will use selection criteria chosen from the general selection criteria in 34 CFR 75.210 of EDGAR. The specific selection criteria to be used for this competition will be provided in the application package for this competition.

General Requirements

(a) The projects funded under this competition must make positive efforts to employ and advance in employment qualified individuals with disabilities (see section 606 of IDEA).

(b) Applicants and grant recipients under this competition must involve qualified individuals with disabilities or parents of individuals with disabilities in planning, implementing, and evaluating the projects (see section 661(f)(1)(A) of IDEA).

(c) If a project maintains a Web site, it must include relevant information and documents in an accessible form on the Web site.

Priority

Under 34 CFR 75.105(c)(3), we consider only applications that meet the following absolute priority:

Background

Since the early 1980s, the Office of Special Education Programs (OSEP) has funded a national clearinghouse to provide individuals and organizations throughout the Nation with information, referral, and technical assistance regarding children with disabilities and disability-related issues. Disseminating information is intended to support States and local entities in building capacity to improve early intervention, educational, and transitional services, and results for children with disabilities and their families, and to address systemic-change goals and priorities. As additional parents and professionals address issues related to the Individuals with Disabilities Education Act, as amended (IDEA), and the No Child Left Behind Act of 2001 (NCLB), the need for information will intensify and existing materials will have to be updated, revised, and improved upon.

Given the prominence and complexity of technology within our current information age and the increased demand for timely and accurate information, a central repository of information is critical to the success of a national dissemination effort. This priority will support a national center to serve as a central repository of products developed by OSEP-funded technical assistance and dissemination (TA & D) projects. The chief aim of the center, however, would be to disseminate information about IDEA and NCLB to all interested parties.

Priority

This priority will support a cooperative agreement for a national dissemination center that will (1) serve as a repository for products developed by OSEP's TA & D network, (2) maintain a database of products developed by OSEP's TA & D network, as well as scientifically-based products not developed by the TA & D network, and 3) disseminate products. This Center must be named the National Dissemination Center for Children with Disabilities.

The Center must—

(a) Conduct a semi-annual survey of all OSEP-funded TA & D centers to determine the current status of products developed and in development. The Center must report its findings to the Federal project officer.

(b) Collect and disseminate information on the programs and services affecting infants, toddlers, and children with disabilities under IDEA, NCLB, and other Federal education laws.

(c) Collect information related to research on the provision of special education and early intervention services and disseminate that information to teachers and related services professionals, early intervention personnel, teacher trainers, administrators, policy makers, and researchers through a variety of publications and conferences.

(d) Participate in programs and activities to collect and disseminate information on issues related to children with disabilities and promote networking among appropriate national, State, and local agencies and organizations that deal with issues under IDEA. The Center must coordinate its activities with Parent Training and Information Centers, Community Parent Resource Centers, the National and Regional Parent Technical Assistance Centers projects, Regional Resource Centers, and other centers supported under Part D, including research institutes and training centers, age-specific technical assistance centers, and content-specific technical assistance centers. Evidence of collaboration and proposed outcomes of the collaboration must be reported to the Federal project officer.

(e) Develop informational exchanges among the Center and other OSEP TA & D centers, and other federally-supported TA & D centers as appropriate.

(f) In addition to the above networking activities, collaborate and communicate with other OSEP-funded projects such as the State Improvement grantees, General Supervision Enhancement grantees, and the National Center for Special Education Accountability Monitoring. Evidence of collaboration and proposed outcomes of the collaboration must be reported to the Federal project officer.

(g) Establish a coordinated network and conduct outreach activities with relevant Federal, State, and local organizations aimed at disseminating relevant information on research, programs, and services.

(h) Maintain a database of all products developed by OSEP's TA & D network and other related products as appropriate. This database must include information on practices, including interventions, techniques, programs, and models. This information must be in a standard format that includes, at a minimum, the following:

(1) The specific practice and the intended audience.

(2) The extent to which clear guidelines for successful implementation of the practice are available.

(3) The extent to which the practice includes:

(i) Appropriate training for all implementers;

(ii) Systemic implementation utilizing appropriate organizational structures and processes; and

(iii) High expectations and effective assessment of student progress.

(4) Where interested individuals can see the practice in operation, producing the intended level of results.

(5) The cost to implement the practice.

(i) Develop and implement strategies to disseminate information to underrepresented groups such as those with limited English proficiency.

(j) Create and maintain a Web site that (1) links electronically to all OSEP-funded TA & D project Web sites, (2) contains a database of all OSEP-funded TA & D products, (3) contains a searchable database that includes all active OSEP discretionary projects, (4) keeps information and documents in an accessible form, and (5) is available in both English and Spanish.

The Center's product development activities must include but are not limited to the following:

(a) Developing products on IDEA legislation and NCLB as it relates to students with disabilities, as requested and approved by OSEP.

(b) Establishing a mechanism for synthesizing and disseminating research information to all interested parties. For topics that the What Works Clearinghouse does not plan to address the Center will use the What Works Clearinghouse protocols to carry out synthesis work. This process must include the involvement of researchers who will assist the Center in the synthesis of research. Topics must be approved by OSEP prior to synthesis. This activity must include but is not limited to publishing semi-annually the Research Connections in Special Education, an 8-page brief that synthesizes research results into user-friendly information for practitioners.

(c) Preparing the OSEP Digest and issuing briefs and other products designed to summarize recent research on critical issues for practitioners and other interested parties. These briefs and other reports, to the extent possible, must (1) build on an existing database of analyses of research studies (that over time will be submitted in a standard format for group designs) so that new reports will build on previous reports and (2) be available on the Web.

(e) Preparing the annual directories of OSEP-funded projects by compiling information about all OSEP-funded discretionary grants. This information must include an abstract of each grant, administrative information about the grant such as the grantee, name of project, name of project director, beginning and ending dates of grant, name of OSEP project officer, and other information as requested by OSEP. An electronic database that contains all of the information found in the directories must be maintained.

The Center must also:

(a) Maintain communication with the Federal project officer through monthly phone conversations and e-mail communication as needed. The Center must submit annual performance reports and provide additional written materials as needed for the Federal project officer to monitor the Center's work.

(b) Establish a document review board whose membership must be approved by OSEP. All OSEP TA & D projects will be required to submit proposals for new paper or electronic products to the review board prior to their development. The board must review these proposals in a timely fashion and approve for development all proposed products that are deemed necessary to meet existing information needs. The board must also identify information needs for which no product is available, and solicit proposals from OSEP's TA & D network for new products to meet these needs.

(c) Establish, maintain, and meet at least annually with an advisory committee consisting of persons with expertise in information dissemination, individuals with disabilities, parents, educators, service providers, researchers, and others as appropriate to review and provide advice on the Center's activities and plans. The members of this committee must be approved by OSEP.

(d) Evaluate the impact of the Center's activities relative to its users, the dissemination needs of its users, and the proposed outcomes of the dissemination. The Center must report its evaluation findings annually to the Federal project officer.

(e) In addition to the 2-day Project Directors' meeting listed in the General Requirements section of this notice, budget for an additional 2-day project meeting annually to attend the Research Project Directors' meeting and for at least eight 2-day trips annually as requested by OSEP to attend events such as Department briefings, Department-sponsored conferences, and other events needed to fulfill public awareness objectives.

Fourth and Fifth Years of Project

In deciding whether to continue this project for the fourth and fifth years, the Secretary will consider the requirements of 34 CFR 75.253(a), and in addition—

(a) The recommendation of a review team consisting of experts selected by the Secretary which review will be conducted in Washington, DC, during the last half of the project's second year. Projects must budget for the travel associated with this one-day intensive review;

(b) The timeliness and effectiveness with which all requirements of the negotiated cooperative agreement have been or are being met by the Center; and

(c) Evidence of the degree to which the Center's activities have contributed to changed practices and improved student outcomes.

Waiver of Proposed Rulemaking

It is generally our practice to offer interested parties the opportunity to comment on proposed priorities. However, section 661(e)(2) of IDEA makes the public comment requirements in the Administrative Procedure Act (5 U.S.C. 553) inapplicable to the priority in this notice.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In Fiscal Year 2003, the U.S. Department of Education is continuing to expand its pilot project for electronic submission of applications to include additional formula grant programs and additional discretionary grant competitions. Special Education—Technical Assistance and Dissemination to Improve Services and Results for Children with Disabilities Program—CFDA #84.326N is one of the programs included in the pilot project. If you are an applicant under the Special Education—Technical Assistance and Dissemination to Improve Services and Results for Children with Disabilities Program, you may submit your application to us in either electronic or paper format.

The pilot project involves the use of the Electronic Grant Application System (e-Application). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Education Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on all other forms at a later date.

• Closing Date Extension in Case of System Unavailability: If you elect to participate in the e-Application pilot for the Special Education'Technical Assistance and Dissemination to Improve Services and Results for Children with Disabilities Program and you are prevented from submitting your application on the closing date because the e-Application system is unavailable, we will grant you an extension of one business day in order to transmit your application electronically, by mail, or by hand delivery. For us to grant this extension—

1. You must be a registered user of e-Application, and have initiated an e-Application for this competition; and

2. (a) The e-Application system must be unavailable for 60 minutes or more between the hours of 8:30 a.m. and 3:30 p.m., Washington, DC, time, on the deadline date; or

(b) The e-Application system must be unavailable for any period of time during the last hour of operation (that is, for any period of time between 3:30 p.m. and 4:30 p.m., Washington, DC, time) on the deadline date.

The Department must acknowledge and confirm these periods of unavailability before granting you an extension. To request this extension you must contact either (1) the person listed elsewhere in this notice under FOR FURTHER INFORMATION CONTACT or (2) the e-GRANTS help desk at 1-888-336-8930.

You may access the electronic grant application for the Special Education—Technical Assistance and Dissemination to Improve Services and Results for Children with Disabilities Program at http://e-grants.ed.gov.

We have included additional information about the e-Application pilot project (see Parity Guidelines between Paper and Electronic Applications) in the application package.

For Applications Contact: Education Publications Center (ED Pubs), P.O. Box 1398, Jessup, Maryland 20794-1398. Telephone (toll free): 1-877-433-7827. FAX: 301-470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA 84.326N.

FOR FURTHER INFORMATION CONTACT: The Grants and Contracts Services Team, U.S. Department of Education, 400 Maryland Avenue, SW., room 3317, Switzer Building, Washington, DC 20202-2550. Telephone: 1-202-205-8207.

If you use a telecommunications device for the deaf (TDD), you may call the Federal Information Relay Service (FIRS) at 1-800-877-8339.

Individuals with disabilities may obtain this document or a copy of the application package in an alternative format (e.g., Braille, large print, audiotape, or computer diskette) on request to the Grants and Contracts Services Team listed in this section. However, the Department is not able to reproduce in an alternative format the standard forms included in the application package.

Intergovernmental Review

The program in this notice is subject to the requirements of Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at http://www.access.gpo/nara/index.html.

Program Authority: 20 U.S.C. 1485.

Dated: July 25, 2003.
Robert H. Pasternack,
Assistant Secretary for Special Education and Rehabilitative Services.

[FR Doc. 03-19337 Filed 7-29-03; 8:45 am]

BILLING CODE 4000-01-P